DEPARTMENT OF HEALTH AND HUMAN SERVICES

National Institutes of Health

National Institute of Diabetes and Digestive and Kidney Diseases Diabetes Mellitus Interagency Coordinating Committee; Notice of Meeting

The Diabetes Mellitus Interagency Coordinating Committee (DMICC) will hold a web conference on July 18, 2012, from 1 to 3:30 p.m. The public is invited to participate in the web conference. For information on accessing the DMICC web conference, go to the DMICC Web site at www.diabetescommittee.gov and click on “Meeting Report” in the right-hand sidebar; on the next page, click on “Attend Web Conference” (note that the “Attend Web Conference” link will not be active until 30-minutes prior to the meeting start time). Non-federal individuals planning to attend the web conference should notify the contact person listed in this notice at least 2 days prior to the meeting.

The DMICC facilitates cooperation, communication, and collaboration on diabetes among government entities. DMICC meetings, held several times a year, provide an opportunity for members to learn about and discuss current and future diabetes programs in DMICC member organizations and to identify opportunities for collaboration. The July 18, 2012, DMICC web conference will focus on “Peer Care in Diabetes Peer Support and Diabetes Control.”

Any member of the public interested in presenting oral comments to the Committee should notify the contact person listed on this notice at least 10 days in advance of the meeting. Interested individuals and representatives or organizations should submit a letter of intent, a brief description of the organization represented, and a written copy of their oral presentation in advance of the meeting. Only one representative of an organization will be allowed to present; oral comments and presentations will be limited to a maximum of 5 minutes. Printed and electronic copies are requested for the record. In addition, any interested person may file written comments with the Committee by forwarding their statement to the contact person listed on this notice. The statement should include the name, address, telephone number and when applicable, the business or professional affiliation of the interested person. Because of time constraints for the meeting, oral comments will be allowed on a first-come, first-serve basis.

Members of the public who would like to receive email notification about future DMICC meetings should register on the listserv available on the same Web site.

For further information concerning this meeting, contact Dr. Sanford Garfield, Executive Secretary of the Diabetes Mellitus Interagency Coordinating Committee, National Institute of Diabetes and Digestive and Kidney Diseases, 6707 Democracy Boulevard, Room 654, MSC 5460, Bethesda, MD 20892-5460, telephone: 301-594-8803; FAX: 301-402-6271; email: dmicc@mail.nih.gov.

Dated: June 13, 2012.
Sanford Garfield,
Executive Secretary, DMICC, Division of Diabetes, Endocrinology and Metabolic Diseases, NIDDK, National Institutes of Health.

[FR Doc. 2012-14938 Filed 6-19-12; 8:45 am]

BILLING CODE 4140-01-P